DEPARTMENT OF COMMERCE

National Oceanic and Atmospheric Administration

RIN 0648-XE29

Endangered and Threatened Species; Recovery Plans; Final Recovery Plan for Southern Resident Killer Whales

AGENCY: National Marine Fisheries Service (NMFS), National Oceanic and Atmospheric Administration (NOAA), Commerce.

ACTION: Notice of availability.

SUMMARY: We, the National Marine Fisheries Service (NMFS), announce the adoption of our final Endangered Species Act (ESA) Recovery Plan for the Southern Resident killer whale DPS (Orcinus orca). The Final Recovery Plan for Southern Resident Killer Whales (Final Recovery Plan) and the NMFS summary of and responses to public comments are now available.

ADDRESSES: The Recovery Plan, public comment summary and responses, and other supporting documents are available on-line on the NMFS web site www.nwr.noaa.gov. Copies of the Plan may be reviewed and/or copied at NMFS, Protected Resources Division, 7600 Sand Point Way NE, Seattle, WA, 98115.

FOR FURTHER INFORMATION CONTACT: Lynne Barre, NOAA/NMFS, Northwest Region, (206) 526-4745.

SUPPLEMENTARY INFORMATION: The Endangered Species Act (ESA) of 1973, as amended (15 U.S.C. 1531 et seq.) requires that NMFS develop and implement recovery plans for the conservation and survival of threatened and endangered species under its jurisdiction, unless it is determined that such plans would not result in the conservation of the species. NMFSWe announced the endangered listing of the Southern Resident killer whale distinct population segment (DPS) on November 18, 2005 (70 FR 69903). Prior to the ESA listing, NMFS designated the Southern Resident killer whale population as a depleted stock under the Marine Mammal Protection Act (MMPA; 16 U.S.C. 1361 et seq.) on May 29, 2003 (68 FR 31980). At the time of the designation, we announced our intention to develop a conservation plan.

We held a series of public meetings and technical workshops to gather input from Federal government agency representatives, state and tribal co-managers, Canadian officials, orca advocacy groups, non-governmental organizations, researchers, whale watch industry and concerned citizens. We circulated a preliminary draft conservation plan for public review on March 14, 2005. We received comments on the preliminary draft, and made revisions in response to the comments. We subsequently published a Notice of Availability of a Proposed Conservation Plan for Southern Resident Killer Whales in the Federal Register on October 3, 2005 (70 FR 57565) opening a public comment period. We received comments on the proposed conservation plan. Before the conservation plan was finalized, we listed the Southern Resident DPS as an endangered species. In developing a proposed recovery plan for the whales, we addressed the comments we had received on the proposed conservation plan and incorporated ESA elements into the plan, including discussions of the ESA section 4(a)(1) listing factors, critical habitat, section 7, and ESA recovery criteria. We published a Notice of Availability of the Proposed Recovery Plan for Southern Resident Killer Whales in the Federal Register on November 29, 2006 (71 FR 69101) opening another public comment period. We received 50 comment letters by mail, fax or e-mail and prepared a summary of the comments and provided information on our responses, including descriptions of edits made to the Final Recovery Plan to incorporate the comments. We also included new information, research results, and references that have become available since the proposed recovery plan was released.

The Final Recovery Plan

The ESA requires that recovery plans incorporate (1) objective, measurable criteria which, when met, would result in a determination that the species is no longer threatened or endangered; (2) site-specific management actions necessary to achieve the plan's goals; and (3) estimates of time required and costs to implement recovery actions. NMFS's goal is to restore the endangered Southern Resident DPS killer whales to the point where they are again secure, self-sustaining members of their ecosystems and no longer need the protections of the ESA.

The Final Recovery Plan provides background on the natural history of killer whales, population trends and the potential threats to their viability. The Plan lays out a recovery strategy to address the potential threats based on the best available science and includes recovery goals and criteria. The Plan is not regulatory, but presents guidance for use by agencies and interested parties to assist in the recovery of Southern Resident killer whales. The Plan identifies substantive actions needed to achieve recovery by addressing the threats to the species. The strategy for recovery includes linking management actions to an active research program to fill data gaps, and monitor activities to assess effectiveness. The Plan incorporates an adaptive management framework by which management actions and other elements will evolve and adapt as we gain information through research and monitoring and it describes the agency guidance on time lines for reviews of the status of species and recovery plans. To address threats related to prey availability and contaminants, the Plan references many of the significant efforts already underway to restore salmon runs and clean up Puget Sound, such as the Shared Strategy Puget Sound Salmon Recovery Plan and the Puget Sound Partnership.

We expect the Final Recovery Plan to help us and other Federal agencies take a consistent approach to section 7 consultations under the ESA and to other ESA decisions. For example, the plan will provide information on the biological context for the effects that a proposed action may have on the listed DPS. The best available information in the plan on the natural history, threats, and potential limiting factors, and priorities for recovery can be used to help assess risks. Consistent with the adoption of this Final Recovery Plan for Southern Resident killer whales, we will implement actions in the plan for which we have authority, work cooperatively on implementation of other actions, and encourage other Federal and state agencies to implement recovery actions for which they have responsibility and authority. Recovery of Southern Resident killer whales is a long-term effort and will require cooperation and coordination of Federal, state, tribal and local government agencies, and the community.

We conclude that the Final Recovery Plan meets the requirements of the ESA section 4(f) and are thus adopting it as the Final Recovery Plan for Southern Resident killer whales.

Authority: 16 U.S.C. 1531 et seq.

Dated: January 17, 2008.
Angela Somma,
Chief, Endangered Species Division, Office of Protected Resources, National Marine Fisheries Service.

[FR Doc. E8-1206 Filed 1-23-08; 8:45 am]

BILLING CODE 3510-22-S